DEPARTMENT OF THE INTERIOR

Bureau of Land Management

[LLNMA010000 L14400000.FR0000; NMNM 128706]

Notice of Realty Action; Recreation and Public Purposes Act Classification for Conveyance of Public Lands in Cibola County, New Mexico

AGENCY: Bureau of Land Management, Interior.

ACTION: Notice of realty action.

SUMMARY: The Bureau of Land Management (BLM) has examined and found suitable for classification for conveyance under the provisions of the Recreation and Public Purposes (R&PP) Act, as amended, 211.73 acres of public land in Cibola County, New Mexico. Cibola County proposes to use the land to develop a public shooting range complex.

DATES: Interested parties may submit written comments regarding the proposed classification of the land for conveyance to the Field Manager, Rio Puerco Field Office, at the address below on or before May 15, 2017.

ADDRESSES: Written comments should be addressed to the Bureau of Land Management, Field Manager, Rio Puerco Field Office, 100 Sun Avenue NE., Suite 330, Pan American Bldg., Albuquerque, NM 87109. Please reference “R&PP of Public Lands to Cibola County for Shooting Range” on all correspondence.

FOR FURTHER INFORMATION CONTACT: Arlene Salazar, Realty Specialist, Rio Puerco Field Office, 505-761-8772, email: asalazar@blm.gov, or at the above address. Persons who use a telecommunications device for the deaf (TDD) may call the Federal Relay Service at 1-800-877-8339 to contact the above individual during normal business hours. The Service is available 24 hours a day, 7 days a week, to leave a message or question for the above individual. Replies are provided during normal business hours.

SUPPLEMENTARY INFORMATION: The following described public land has been examined and found suitable for classification for conveyance to Cibola County under Section 7 of the Taylor Grazing Act (43 U.S.C. 315f) and the provisions of the R&PP Act, as amended (43 U.S.C. 869 et seq.):

New Mexico Principal Meridian

T. 11 N., R. 10 W.,

Sec. 6, lot 4 and lots 10 thru 12, N½SE¼NW¼, N½SW¼SE¼NW¼, SE¼SW¼SE¼NW¼, SE¼SE¼NW¼, NE¼NE¼SW¼, N½SE¼NE¼SW¼, SE¼SE¼NE¼SW¼, and NW¼SE¼.

The area described contains 211.73 acres, more or less, in Cibola County, New Mexico.

The land is not needed for any Federal purpose and is not of national significance. Conveyance is consistent with the BLM Rio Puerco Resource Management Plan, October 1992, and would be in the public interest.

The conveyance document, if issued, would be subject to the provisions of the R&PP Act and applicable regulations of the Secretary of the Interior and will contain the following reservations, terms, and conditions:

1. Right-of-way NMNM 57859 issued to the U.S. Forest Service for a road to access Forest Service land adjacent to the subject parcel.

2. A right-of-way thereon for ditches or canals constructed by authority of the United States, pursuant to the Act of August 30, 1890, 43 U.S.C. 945.

3. All minerals shall be reserved to the United States, together with the right to prospect for, mine, and remove the minerals under applicable laws and such regulations as the Secretary of the Interior may prescribe including all necessary access and exit rights.

4. The purchaser, by accepting the patent, agrees to indemnify, defend, and hold the United States harmless from any costs, damages, claims, causes of action, penalties, fines, liabilities, and judgments of any kind arising from the past, present, or future acts or omissions of the patentee, its employees, agents, contractors, or lessees, or third party arising out of or in connection with the use and/or occupancy of the patented real property resulting in: (1) Violations of Federal, state, and local laws and regulations that are now, or in the future become, applicable to the real property; (2) Judgments, claims, or demands of any kind assessed against the United States; (3) Costs, expenses, or damages of any kind incurred by the United States; (4) Releases or threatened releases of solid or hazardous waste(s) and/or hazardous substance(s), as defined by Federal or state environmental laws, off, on, into, or under land, property, and other interests of the United States; (5) Other activities by which solid or hazardous substances or wastes, as defined by Federal and state environmental laws are generated, released, stored, used, or otherwise disposed of on the patented real property, and any cleanup response, remedial action, or other actions related in any manner to said solid or hazardous substances or wastes; or (6) Natural resource damages as defined by Federal and state law. This covenant will run with the patented real property and may be enforced by the United States in a court of competent jurisdiction.

5. A limited reversionary provision stating that title shall revert to the United States upon a finding, after notice and opportunity for a hearing, that the patentee has not substantially developed the lands in accordance with the approved plan of development on or before the date five years after the date of conveyance. No portion of the land shall, under any circumstance, revert to the United States if any such portion has been used for solid waste disposal or for any other purpose which may result in the disposal, placement, or release of any hazardous substance.

6. Any other terms or conditions that the Authorized Officer determines appropriate to ensure public access and proper management of the Federal land and interests therein. Subject to limitations prescribed by law and regulations, prior to conveyance, a holder of any right-of-way within the conveyed area may be given the opportunity to amend the right-of-way for conversion to a new term, including perpetuity, if applicable. Detailed information concerning this proposed project, including, but not limited to documentation relating to compliance with applicable environmental and cultural resource laws, is available for review at the BLM Rio Puerco Field Office at the address above.

Upon publication of this notice in the Federal Register, the public land described above will be segregated from all forms of appropriation under the public land laws, including the general mining laws, except for conveyance under the R&PP Act, and leasing under the mineral leasing laws.

Classification Comments: Interested parties may submit comments regarding the suitability of the land for the proposed facility. Comments on the classification are restricted to whether the land is physically suited for the proposal, whether the use will maximize the future use (or uses) of the land, whether the use is consistent with local planning and zoning, or whether the use is consistent with Federal and state programs.

Application Comments: Interested parties may submit comments regarding the specific use proposed in the application and plan of development and management, and whether the BLM followed proper administrative procedures in reaching the decision to convey under the R&PP Act.

The BLM New Mexico State Director will review any adverse comments and may sustain, vacate, or modify this realty action. In the absence of any adverse comments, the classification of the land described in this notice will become effective on May 30, 2017. The land will not be available for conveyance until after the classification becomes effective.

Before including your address, phone number, email address, or other personal identifying information in your comment, you should be aware that your entire comment—including your personal identifying information—may be made publicly available at any time. While you can ask us in your comment to withhold your personal identifying information from public review, we cannot guarantee that we will be able to do so.

(Authority: 43 CFR 2741.5)

Melanie Barnes,
Acting Deputy State Director, Lands and Resources.

[FR Doc. 2017-06346 Filed 3-30-17; 8:45 am]

BILLING CODE 4310-FB-P